DEPARTMENT OF THE INTERIOR

National Park Service

[NPS-WASO-NAGPRA-NPS0040467; PPWOCRADN0-PCU00RP14.R50000]

Notice of Inventory Completion: University of North Dakota, Grand Forks, ND, and the State Historical Society of North Dakota, Bismarck, ND

AGENCY: National Park Service, Interior.

ACTION: Notice.

SUMMARY: In accordance with the Native American Graves Protection and Repatriation Act (NAGPRA), the University of North Dakota and the State Historical Society of North Dakota have completed an inventory of associated funerary objects and have determined that there is a cultural affiliation between the associated funerary objects and Indian Tribes or Native Hawaiian organizations in this notice.

DATES: Repatriation of the associated funerary objects in this notice may occur on or after August 11, 2025.

ADDRESSES: Send written requests for repatriation of the associated funerary objects in this notice to Dr. Crystal Alberts, University of North Dakota, Twamley Hall Room 300, 264 Centennial Drive, Grand Forks, ND 58202, email und.nagpra@und.edu.

SUPPLEMENTARY INFORMATION: This notice is published as part of the National Park Service's administrative responsibilities under NAGPRA. The determinations in this notice are the sole responsibility of the University of North Dakota and the State Historical Society of North Dakota, and additional information on the determinations in this notice, including the results of consultation, can be found in the inventory or related records. The National Park Service is not responsible for the determinations in this notice.

Abstract of Information Available

According to documentation, 37 associated funerary objects were removed from a site in Burleigh County, ND. The University of North Dakota and the State Historical Society of North Dakota have no record of any potentially hazardous substances being used to treat the associated funerary objects described.

Cultural Affiliation

Based on the information available and as the result of consultation, cultural affiliation is reasonably identified by the geographical location of the associated funerary objects described in this notice.

Determinations

The University of North Dakota and the State Historical Society of North Dakota have determined that:

• The 37 objects described in this notice are reasonably believed to have been placed intentionally with or near individual human remains at the time of death or later as part of the death rite or ceremony.

• There is a reasonable connection between the associated funerary objects described in this notice and the Three Affiliated Tribes of the Fort Berthold Reservation, North Dakota.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after August 11, 2025. If competing requests for repatriation are received, the University of North Dakota must determine the most appropriate requestor prior to repatriation. Requests for joint repatriation of the associated funerary objects are considered a single request and not competing requests. The University of North Dakota and the State Historical of North Dakota are responsible for sending a copy of this notice to the Indian Tribes and Native Hawaiian organizations identified in this notice.

Authority: Native American Graves Protection and Repatriation Act, 25 U.S.C. 3003, and the implementing regulations, 43 CFR 10.10.

Dated: June 25, 2025.
Melanie O'Brien,
Manager, National NAGPRA Program.

[FR Doc. 2025-12822 Filed 7-9-25; 8:45 am]

BILLING CODE 4312-52-P